DEPARTMENT OF COMMERCE

National Oceanic and Atmospheric Administration

[RTID O648-XD375]

Fisheries of the South Atlantic; South Atlantic Fishery Management Council; Public Meetings

AGENCY: National Marine Fisheries Service (NMFS), National Oceanic and Atmospheric Administration (NOAA), Commerce.

ACTION: Notice of South Atlantic Fishery Management Council's (Council) Seminar Series presentation via webinar.

SUMMARY: The Council will host an oral history of the rock shrimp fishery off the southeastern United States via webinar.

DATES: The webinar presentation will be held on Tuesday, October 10, 2023, from 1 p.m. until 2:30 p.m.

ADDRESSES: Meeting address: The presentation will be provided via webinar. The webinar is open to members of the public. Information, including a link to webinar registration will be posted on the Council's website at: https://safmc.net/safmc-seminar-series/ as it becomes available.

Council address: South Atlantic Fishery Management Council, 4055 Faber Place Drive, Suite 201, N Charleston, SC 29405.

FOR FURTHER INFORMATION CONTACT: Kim Iverson, Public Information Officer, SAFMC; phone: (843) 302-8439 or toll free: (866) SAFMC-10; fax: (843) 769-4520; email: kim.iverson@safmc.net.

SUPPLEMENTARY INFORMATION: The Council will host an oral history from a member of the South Atlantic Fishery Management Council on the southeastern rock shrimp fishery. The presentation will include information on her family's history in the fishery, development of the rock shrimp fishery off the coast of Florida, new innovations used in the fishery, and the effect of management regulations on the fishery. A question-and-answer session will follow the presentation. Members of the public will have the opportunity to participate in the discussion. The presentation is for informational purposes only and no management actions will be taken.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: September 19, 2023.
Rey Israel Marquez,
Acting Deputy Director, Office of Sustainable Fisheries, National Marine Fisheries Service.

[FR Doc. 2023-20619 Filed 9-22-23; 8:45 am]

BILLING CODE 3510-22-P